SECURITIES AND EXCHANGE COMMISSION

[Release No. 34-72125; File No. SR-OCC-2013-804]

Self-Regulatory Organizations; The Options Clearing Corporation; Notice of Withdrawal of an Advance Notice in Connection With a Proposed Change to its Operations in the Form of a Private Offering by OCC of Senior Unsecured Debt Securities

May 8, 2014.

On June 10, 2013, The Options Clearing Corporation (“OCC”) filed with the Securities and Exchange Commission (“Commission”), pursuant to Section 806(e)(1) of the Payment, Clearing, and Settlement Supervision Act of 2010 (“Clearing Supervision Act”) ¹ and Rule 19b-4(n)(1)(i),² an advance notice relating to a proposal to permit OCC to issue senior unsecured debt securities in a private placement offering. Notice of the advance notice was published in the Federal Register on July 15, 2013.³ The Commission did not receive any comments in response to the advance notice.

¹ 12 U.S.C. 5465(e)(1).

² 17 CFR 240.19b-4(n)(1)(i).

³ See Securities Exchange Act Release No. 69955 (July 10, 2013), 78 FR 42125 (July 15, 2013), (SR-OCC-2014-804).

On January 15, 2014, OCC notified the Commission of its withdrawal of the advance notice (SR-OCC-2013-804) from consideration by the Commission.⁴ The Commission is hereby publishing notice of the withdrawal.

⁴ See Letter from Stephen M. Szarmack, Vice President and Associate General Counsel, The Options Clearing Corporation, to Office of the Secretary, Commission (January 15, 2014).

By the Commission.
Kevin M. O'Neill,
Deputy Secretary.

[FR Doc. 2014-11342 Filed 5-15-14; 8:45 am]

BILLING CODE 8011-01-P